CIVIL RIGHTS COLD CASE RECORDS REVIEW BOARD

[Agency Docket Number: CRCCRRB-2025-0015-N]

Notice of Formal Determination on Records Release

AGENCY: Civil Rights Cold Case Records Review Board.

ACTION: Notice.

SUMMARY: The Civil Rights Cold Case Records Review Board received 418 pages of records from the National Archives and Records Administration (NARA), the Department of Justice, and the Federal Bureau of Investigation (FBI) related to three civil rights cold case incidents to which the Review Board assigned the unique identifiers 2024-003-003, 2024-003-055, and 2024-003-066. The agencies did not propose any postponements of disclosure in the records related to incident 2024-003-066. NARA, the Department of Justice, and the FBI proposed 559 postponements in the records related to the other two incidents. The FBI later withdrew 44 of the postponements the Bureau proposed. On May 9, 2025 and May 16, 2025, the Review Board met and approved 161 postponements and portions of 33 additional postponements, and determined that 354 pages in full and 64 pages in part should be publicly disclosed in the Civil Rights Cold Case Records Collection. By issuing this notice, the Review Board complies with the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street, NW, Washington, DC 20405, (771) 221-0014, info@coldcaserecords.gov.

SUPPLEMENTARY INFORMATION:

Incident identifier | Postponement identifier | Review board decision
2024-003-003 | 2024-DOJ-03-0083 | Reject.
2024-003-003 | 2024-DOJ-03-0084 and 2024-DOJ-03-0085 | Approve.
2024-003-003 | 2024-DOJ-03-0086 | Reject.
2024-003-003 | 2024-DOJ-03-0087 | Approve.
2024-003-003 | 2024-DOJ-03-0088 | Approve with changes.
2024-003-003 | 2024-DOJ-03-0089 | Reject.
2024-003-003 | 2024-DOJ-03-0090 | Approve.
2024-003-003 | 2024-DOJ-03-0091 and 2024-DOJ-03-0092 | Approve with changes.
2024-003-003 | 2024-DOJ-03-0093 through 2024-DOJ-03-0095 | Reject.
2024-003-003 | 2024-DOJ-03-0096 and 2024-DOJ-03-0097 | Approve.
2024-003-003 | 2024-DOJ-03-0098 and 2024-DOJ-03-0099 | Reject.
2024-003-003 | 2024-DOJ-03-0100 | Approve.
2024-003-003 | 2024-DOJ-03-0101 | Approve with changes.
2024-003-003 | 2024-DOJ-03-0102 through 2024-DOJ-03-0104 | Approve.
2024-003-003 | 2024-DOJ-03-0105 through 2024-DOJ-03-0116 | Reject.
2024-003-003 | 2024-DOJ-03-0117 and 2024-DOJ-03-0118 | Approve.
2024-003-003 | 2024-DOJ-03-0119 | Reject.
2024-003-003 | 2024-DOJ-03-0120 | Approve.
2024-003-003 | 2024-DOJ-03-0121 through 2024-DOJ-03-0128 | Reject.
2024-003-003 | 2024-DOJ-03-0129 | Approve with changes.
2024-003-003 | 2024-DOJ-03-0130 and 2024-DOJ-03-0131 | Approve.
2024-003-003 | 2024-DOJ-03-0132 | Approve with changes.
2024-003-003 | 2024-DOJ-03-0133 and 2024-DOJ-03-0134 | Approve.
2024-003-003 | 2024-DOJ-03-0135 through 2024-DOJ-03-0145 | Reject.
2024-003-003 | 2024-DOJ-03-0146 through 2024-DOJ-03-0148 | Approve.
2024-003-003 | 2024-DOJ-03-0149 | Reject.
2024-003-003 | 2024-DOJ-03-0150 | Approve.
2024-003-003 | 2024-DOJ-03-0151 through 2024-DOJ-03-0154 | Reject.
2024-003-003 | 2024-DOJ-03-0155 | Approve.
2024-003-003 | 2024-DOJ-03-0156 | Approve with changes.
2024-003-003 | 2024-DOJ-03-0157 through 2024-DOJ-03-0159 | Approve.
2024-003-003 | 2024-DOJ-03-0160 through 2024-DOJ-03-0171 | Reject.
2024-003-003 | 2024-DOJ-03-0172 and 2024-DOJ-03-0173 | Approve.
2024-003-003 | 2024-DOJ-03-0174 | Reject.
2024-003-003 | 2024-DOJ-03-0175 | Approve.
2024-003-003 | 2024-DOJ-03-0176 through 2024-DOJ-03-0183 | Reject.
2024-003-003 | 2024-DOJ-03-0184 | Approve with changes.
2024-003-003 | 2024-DOJ-03-0185 and 2024-DOJ-03-0186 | Approve.
2024-003-003 | 2024-DOJ-03-0187 | Approve with changes.
2024-003-003 | 2024-DOJ-03-0188 and 2024-DOJ-03-0189 | Approve.
2024-003-003 | 2024-DOJ-03-0190 through 2024-DOJ-03-0200 | Reject.
2024-003-003 | 2024-DOJ-03-0201 through 2024-DOJ-03-0204 | Approve.
2024-003-003 | 2024-DOJ-03-0205 through 2024-DOJ-03-0207 | Reject.
2024-003-003 | 2024-DOJ-03-0208 | Approve with changes.
2024-003-003 | 2024-DOJ-03-0209 and 2024-DOJ-03-0210 | Approve.
2024-003-003 | 2024-DOJ-03-0211 | Approve with changes.
2024-003-003 | 2024-DOJ-03-0212 and 2024-DOJ-03-0213 | Approve.
2024-003-003 | 2024-DOJ-03-0214 through 2024-DOJ-03-0224 | Reject.
2024-003-003 | 2024-DOJ-03-0225 through 2024-DOJ-03-0228 | Approve.
2024-003-003 | 2024-DOJ-03-0229 through 2024-DOJ-03-0231 | Reject.
2024-003-003 | 2024-DOJ-03-0232 | Approve.
2024-003-003 | 2024-DOJ-03-0233 | Approve with changes.
2024-003-003 | 2024-DOJ-03-0234 through 2024-DOJ-03-0236 | Approve.
2024-003-003 | 2024-DOJ-03-0237 through 2024-DOJ-03-0248 | Reject.
2024-003-003 | 2024-DOJ-03-0249 and 2024-DOJ-03-0250 | Approve.
2024-003-003 | 2024-DOJ-03-0251 | Reject.
2024-003-003 | 2024-DOJ-03-0252 | Approve.
2024-003-003 | 2024-DOJ-03-0253 through 2024-DOJ-03-0259 | Reject.
2024-003-003 | 2024-FBI-03-0207 | Reject.
2024-003-003 | 2024-FBI-03-0208 | Approve.
2024-003-003 | 2024-FBI-03-0209 and 2024-FBI-03-0210 | Reject.
2024-003-003 | 2024-FBI-03-0211 | Approve.
2024-003-003 | 2024-FBI-03-0212 and 2024-FBI-03-0213 | Reject.
2024-003-003 | 2024-FBI-03-0214 and 2024-FBI-03-0215 | Approve.
2024-003-003 | 2024-FBI-03-0216 through 2024-FBI-03-0220 | Reject.
2024-003-003 | 2024-FBI-03-0221 | Approve.
2024-003-003 | 2024-FBI-03-0222 | Reject.
2024-003-003 | 2024-FBI-03-0223 | Approve.
2024-003-003 | 2024-FBI-03-0224 through 2024-FBI-03-0226 | Reject.
2024-003-003 | 2024-FBI-03-0227 | Approve.
2024-003-003 | 2024-FBI-03-0228 | Approve with changes.
2024-003-003 | 2024-FBI-03-0228A through 2024-FBI-03-0231 | Reject.
2024-003-003 | 2024-FBI-03-0232 and 2024-FBI-03-0233 | Approve with changes.
2024-003-003 | 2024-FBI-03-0234 through 2024-FBI-03-0237 | Reject.
2024-003-003 | 2024-FBI-03-0238 | Approve with changes.
2024-003-003 | 2024-FBI-03-0239 | Approve.
2024-003-003 | 2024-FBI-03-0239A and 2024-FBI-03-0240 | Reject.
2024-003-003 | 2024-FBI-03-0241 | Approve.
2024-003-003 | 2024-FBI-03-0242 through 2024-FBI-03-0244 | Reject.
2024-003-003 | 2024-FBI-03-0245 | Approve.
2024-003-003 | 2024-FBI-03-0246 through 2024-FBI-03-0248 | Reject.
2024-003-003 | 2024-FBI-03-0249 | Approve.
2024-003-003 | 2024-FBI-03-0250 through 2024-FBI-03-0253 | Reject.
2024-003-003 | 2024-FBI-03-0254 | Approve.
2024-003-003 | 2024-FBI-03-0255 and 2024-FBI-03-0256 | Reject.
2024-003-003 | 2024-FBI-03-0257 | Approve with changes.
2024-003-003 | 2024-FBI-03-0258 and 2024-FBI-03-0259 | Reject.
2024-003-003 | 2024-FBI-03-0260 and 2024-FBI-03-0261 | Approve.
2024-003-003 | 2024-FBI-03-0262 through 2024-FBI-03-0266 | Reject.
2024-003-003 | 2024-FBI-03-0267 | Approve.
2024-003-003 | 2024-FBI-03-0268 and 2024-FBI-03-0269 | Reject.
2024-003-003 | 2024-FBI-03-0270 | Approve.
2024-003-003 | 2024-FBI-03-0271 through 2024-FBI-03-0274 | Reject.
2024-003-003 | 2024-FBI-03-0275 and 2024-FBI-03-0276 | Approve.
2024-003-003 | 2024-FBI-03-0277 | Reject.
2024-003-003 | 2024-FBI-03-0278 | Approve.
2024-003-003 | 2024-FBI-03-0279 and 2024-FBI-03-0280 | Reject.
2024-003-003 | 2024-FBI-03-0281 | Approve.
2024-003-003 | 2024-FBI-03-0282 | Reject.
2024-003-003 | 2024-FBI-03-0283 | Approve.
2024-003-003 | 2024-FBI-03-0284 through 2024-FBI-03-0286 | Reject.
2024-003-003 | 2024-FBI-03-0287 | Approve.
2024-003-003 | 2024-FBI-03-0288 | Reject.
2024-003-003 | 2024-FBI-03-0289 | Approve.
2024-003-003 | 2024-FBI-03-0290 | Approve with changes.
2024-003-003 | 2024-FBI-03-0291 through 2024-FBI-03-0293 | Approve.
2024-003-003 | 2024-FBI-03-0294 through 2024-FBI-03-0306 | Reject.
2024-003-003 | 2024-FBI-03-0307 and 2024-FBI-03-0308 | Approve.
2024-003-003 | 2024-FBI-03-0309 | Reject.
2024-003-003 | 2024-FBI-03-0310 | Approve.
2024-003-003 | 2024-FBI-03-0311 through 2024-FBI-03-0318 | Reject.
2024-003-003 | 2024-FBI-03-0319 | Approve.
2024-003-003 | 2024-FBI-03-0320 | Approve with changes.
2024-003-003 | 2024-FBI-03-0321 through 2024-FBI-03-0323 | Approve.
2024-003-003 | 2024-FBI-03-0324 through 2024-FBI-03-0336 | Reject.
2024-003-003 | 2024-FBI-03-0337 and 2024-FBI-03-0338 | Approve.
2024-003-003 | 2024-FBI-03-0339 | Reject.
2024-003-003 | 2024-FBI-03-0340 | Approve.
2024-003-003 | 2024-FBI-03-0341 through 2024-FBI-03-0348 | Reject.
2024-003-003 | 2024-FBI-03-0349 | Approve with changes.
2024-003-003 | 2024-FBI-03-0350 and 2024-FBI-03-0351 | Approve.
2024-003-003 | 2024-FBI-03-0352 | Approve with changes.
2024-003-003 | 2024-FBI-03-0353 and 2024-FBI-03-0354 | Approve.
2024-003-003 | 2024-FBI-03-0355 through 2024-FBI-03-0365 | Reject.
2024-003-003 | 2024-FBI-03-0366 through 2024-FBI-03-0368 | Approve.
2024-003-003 | 2024-FBI-03-0369 | Reject.
2024-003-003 | 2024-FBI-03-0370 | Approve with changes.
2024-003-003 | 2024-FBI-03-0371 through 2024-FBI-03-0373 | Reject.
2024-003-003 | 2024-FBI-03-0374 | Approve with changes.
2024-003-003 | 2024-FBI-03-0375 and 2024-FBI-03-0376 | Approve.
2024-003-003 | 2024-FBI-03-0377 | Approve with changes.
2024-003-003 | 2024-FBI-03-0378 and 2024-FBI-03-0379 | Approve.
2024-003-003 | 2024-FBI-03-0380 through 2024-FBI-03-0390 | Reject.
2024-003-003 | 2024-FBI-03-0391 through 2024-FBI-03-0393 | Approve.
2024-003-003 | 2024-FBI-03-0394 | Reject.
2024-003-003 | 2024-FBI-03-0395 | Approve with changes.
2024-003-003 | 2024-FBI-03-0396 through 2024-FBI-03-0398 | Reject.
2024-003-003 | 2024-FBI-03-0399 | Approve.
2024-003-003 | 2024-FBI-03-0400 | Reject.
2024-003-003 | 2024-FBI-03-0401 | Approve.
2024-003-003 | 2024-FBI-03-0402 through 2024-FBI-03-0409 | Reject.
2024-003-003 | 2024-FBI-03-0410 and 2024-FBI-03-0411 | Approve with changes.
2024-003-003 | 2024-FBI-03-0412 through 2024-FBI-03-0414 | Reject.
2024-003-003 | 2024-FBI-03-0415 | Approve.
2024-003-003 | 2024-FBI-03-0416 and 2024-FBI-03-0417 | Reject.
2024-003-003 | 2024-FBI-03-0418 and 2024-FBI-03-0419 | Approve with changes.
2024-003-003 | 2024-FBI-03-0420 and 2024-FBI-03-0421 | Reject.
2024-003-055 | 2024-NARA-03-0078 through 2024-NARA-03-0080 | Approve.
2024-003-055 | 2024-FBI-03-0626 through 2024-FBI-03-0637 | Approve.
2024-003-055 | 2024-FBI-03-0638 through 2024-FBI-03-0640 | Withdrawn by agency.
2024-003-055 | 2024-FBI-03-0641 | Approve.
2024-003-055 | 2024-FBI-03-0642 through 2024-FBI-03-0646 | Withdrawn by agency.
2024-003-055 | 2024-FBI-03-0647 | Approve.
2024-003-055 | 2024-FBI-03-0648 and 2024-FBI-03-0649 | Withdrawn by agency.
2024-003-055 | 2024-FBI-03-0650 through 2024-FBI-03-0654 | Approve.
2024-003-055 | 2024-FBI-03-0655 | Approve with changes.
2024-003-055 | 2024-FBI-03-0656 through 2024-FBI-03-0663 | Approve.
2024-003-055 | 2024-FBI-03-0664 | Withdrawn by agency.
2024-003-055 | 2024-FBI-03-0665 and 2024-FBI-03-0666 | Reject.
2024-003-055 | 2024-FBI-03-0667 through 2024-FBI-03-0678 | Approve.
2024-003-055 | 2024-FBI-03-0679 through 2024-FBI-03-0681 | Withdrawn by agency.
2024-003-055 | 2024-FBI-03-0682 | Approve.
2024-003-055 | 2024-FBI-03-0683 through 2024-FBI-03-0687 | Withdrawn by agency.
2024-003-055 | 2024-FBI-03-0688 | Approve.
2024-003-055 | 2024-FBI-03-0689 and 2024-FBI-03-0690 | Withdrawn by agency.
2024-003-055 | 2024-FBI-03-0691 through 2024-FBI-03-0695 | Approve.
2024-003-055 | 2024-FBI-03-0696 | Approve with changes.
2024-003-055 | 2024-FBI-03-0697 through 2024-FBI-03-0704 | Approve.
2024-003-055 | 2024-FBI-03-0705 | Withdrawn by agency.
2024-003-055 | 2024-FBI-03-0706 | Reject.
2024-003-055 | 2024-FBI-03-0707 through 2024-FBI-03-0718 | Approve.
2024-003-055 | 2024-FBI-03-0719 through 2024-FBI-03-0721 | Withdrawn by agency.
2024-003-055 | 2024-FBI-03-0722 | Approve.
2024-003-055 | 2024-FBI-03-0723 through 2024-FBI-03-0727 | Withdrawn by agency.
2024-003-055 | 2024-FBI-03-0728 | Approve.
2024-003-055 | 2024-FBI-03-0729 and 2024-FBI-03-0730 | Withdrawn by agency.
2024-003-055 | 2024-FBI-03-0731 through 2024-FBI-03-0735 | Approve.
2024-003-055 | 2024-FBI-03-0736 | Approve with changes.
2024-003-055 | 2024-FBI-03-0737 through 2024-FBI-03-0744 | Approve.
2024-003-055 | 2024-FBI-03-0745 | Withdrawn by agency.
2024-003-055 | 2024-FBI-03-0746 | Reject.
2024-003-055 | 2024-FBI-03-0747 through 2024-FBI-03-0758 | Approve.
2024-003-055 | 2024-FBI-03-0759 through 2024-FBI-03-0761 | Withdrawn by agency.
2024-003-055 | 2024-FBI-03-0762 | Approve.
2024-003-055 | 2024-FBI-03-0763 through 2024-FBI-03-0767 | Withdrawn by agency.
2024-003-055 | 2024-FBI-03-0768 | Approve.
2024-003-055 | 2024-FBI-03-0769 and 2024-FBI-03-0770 | Withdrawn by agency.
2024-003-055 | 2024-FBI-03-0771 through 2024-FBI-03-0775 | Approve.
2024-003-055 | 2024-FBI-03-0776 | Approve with changes.
2024-003-055 | 2024-FBI-03-0777 through 2024-FBI-03-0784 | Approve.
2024-003-055 | 2024-FBI-03-0785 | Withdrawn by agency.
2024-003-055 | 2024-FBI-03-0786 | Reject.

(Authority: Pub. L. 115-426, 132 Stat. 5489 (44 U.S.C. 2107))

Dated: May 20, 2025.
Stephannie Oriabure,
Chief of Staff.

[FR Doc. 2025-09417 Filed 5-23-25; 8:45 am]

BILLING CODE 6820-SY-P